DEPARTMENT OF TRANSPORTATION

Surface Transportation Board

[Docket No. FD 35672]

RSL Railroad LLC—Operation Exemption—Massillon Energy & Technology Park

On September 10, 2012, RSL Railroad, LLC (RSL), filed a verified notice of exemption (Notice) under 49 CFR 1150.31 to operate an approximately 1.27-mile line, in Massillon, Stark County, Ohio, from milepost 0.0 to milepost 1.27± (the Line), pursuant to an agreement with Massillon Energy & Technology Park (Massillon), the owner of the Line. By decision served October 3, 2012, on RSL's motion, the Board held the Notice in abeyance pending record supplementation and further Board action. RSL supplemented the record on April 26, 2013, and June 4, 2013. The abeyance in this proceeding will be lifted upon service of this Notice.

This transaction is related to a notice of exemption filed in Transport Handling Specialists, Inc.—Continuance in Control Exemption—RSL Railroad, LLC, Docket No. FD 35726, in which Transport Handling Specialists, Inc. (THS), is seeking Board authority to continue in control of RSL upon RSL's becoming a Class III rail carrier.

RSL states that it will operate over track that will be rehabilitated. RSL states that it intends to interchange traffic with “the NS Industrial line,” ¹ and possibly with R.J. Corman Railroad. In addition, RSL states that the memorandum of understanding ² between RSL and Massillon does not contain any interchange commitments, and that there will be no interchange commitments between RSL and its connecting carriers.

¹ Notice 3 (Sept. 10, 2012). The reference is to Norfolk Southern Railway.

² Because Massillon is not a common carrier subject to Board jurisdiction, RSL filed with the Board a copy of its memorandum of understanding with Massillon. See Anthony Macrie—Continuance in Control Exemption—N.J. Seashore Lines, Inc., FD 35296, et al., slip op. at 3 (STB served Aug. 31, 2010).

The transaction may be consummated on or after July 26, 2013 (the effective date of this exemption).

RSL certifies that its projected annual revenues as a result of the transaction will not exceed those that would make it a Class III rail carrier and will not exceed $5 million.

If the verified notice contains false or misleading information, the exemption is void ab initio. Petitions to revoke the exemption under 49 U.S.C. 10502(d) may be filed at any time. The filing of a petition to revoke will not automatically stay the effectiveness of the exemption. Stay petitions must be filed by July 19, 2013 (at least seven days before the exemption becomes effective).

An original and 10 copies of all pleadings, referring to Docket No. FD 35672, must be filed with the Surface Transportation Board, 395 E Street SW., Washington, DC 20423-0001. In addition, a copy of each pleading must be served on Baxter Wellmon, 1554 Paoli Pike #179, West Chester, PA 19380.

Board decisions and notices are available on our Web site at www.stb.dot.gov.

Decided: July 9, 2013.
By the Board, Rachel D. Campbell, Director, Office of Proceedings.
Jeffrey Herzig,
Clearance Clerk.

[FR Doc. 2013-16753 Filed 7-11-13; 8:45 am]

BILLING CODE 4915-01-P